DEPARTMENT OF COMMERCE

Foreign-Trade Zones Board

[S-150-2017]

Approval of Subzone Status; Valeo North America, Inc.; Winchester, Kentucky

On September 25, 2017, the Executive Secretary of the Foreign-Trade Zones (FTZ) Board docketed an application submitted by the Greater Cincinnati FTZ, Inc., grantee of FTZ 47, requesting subzone status subject to the existing activation limit of FTZ 47, on behalf of Valeo North America, Inc., in Winchester, Kentucky.

The application was processed in accordance with the FTZ Act and Regulations, including notice in the Federal Register inviting public comment (82 FR 45263, September 28, 2017). The FTZ staff examiner reviewed the application and determined that it meets the criteria for approval. Pursuant to the authority delegated to the FTZ Board Executive Secretary (15 CFR Sec. 400.36(f)), the application to establish Subzone 47D was approved on November 20, 2017, subject to the FTZ Act and the Board's regulations, including Section 400.13, and further subject to FTZ 47's 2,000-acre activation limit.

Dated: January 17, 2018.
Elizabeth Whiteman,
Acting Executive Secretary.

[FR Doc. 2018-01042 Filed 1-19-18; 8:45 am]

BILLING CODE 3510-DS-P